DEPARTMENT OF COMMERCE

National Oceanic and Atmospheric Administration

[I.D. 122100B]

Marine Mammals; File No. 753-1599-00

AGENCY: National Marine Fisheries Service (NMFS), National Oceanic and Atmospheric Administration (NOAA), Commerce.

ACTION: Issuance of permit.

SUMMARY: Notice is hereby given that Jim Darling, Ph.D., P.O. Box 384, Tofino, British Columbia, Canada VOR 2Z0, has been issued a permit to take humpback whales (Megaptera novaeangliae) and gray whales (Eschrichtius robustus) for purposes of scientific research.

ADDRESSES:

See SUPPLEMENTARY INFORMATION for addressses where the documents may be reviewed.

FOR FURTHER INFORMATION CONTACT: Jill Lewandowski or Trevor Spradlin, 301/713-2289.

SUPPLEMENTARY INFORMATION: On August 29, 2000, notice was published in the Federal Register (65 FR 52411) that a request for a scientific research permit to take humpback whales and gray whales had been submitted by the above-named Jim Darling, Ph.D. The requested permit has been issued under the authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR parts 222-226).

Issuance of this permit, as required by the ESA, was based on a finding that such permit (1) was applied for in good faith, (2) will not operate to the disadvantage of the endangered species which is the subject of this permit, and (3) is consistent with the purposes and policies set forth in section 2 of the ESA.

Documents may be reviewed in the following locations:

Permits and Documentation Division, Office of Protected Resources, NMFS, 1315 East-West Highway, Room 13705, Silver Spring, MD 20910 (301/713-2289);

Northwest Region, NMFS, 7600 Sand Point Way NE, BIN C15700, Bldg. 1, Seattle, WA 98115-0700; phone (206)526-6150; fax (206)526-6426;

Alaska Region, NMFS, P.O. Box 21668, Juneau, AK 99802-1668; phone (907)586-7221; fax (907)586-7249;

Coordinator, Pacific Islands Area Office, NMFS, 1601 Kapiolani Blvd., Honolulu, HI 96814-4700; phone(808)973-2935; fax 808)973-2941; and

Southwest Region, NMFS, 501 W. Ocean Blvd., Suite 4200, Long Beach, CA 90802-4213; phone (562)980-4001; fax (562) 980-4108.

Dated: January 4, 2001.
Ann Terbush,
Chief, Permits Division, Office of Protected Resources, National Marine Fisheries Service.

[FR Doc. 01-772 Filed 1-9-01; 8:45 am]

BILLING CODE 3510-22-S